DEPARTMENT OF TRANSPORTATION

Federal Aviation Administration

Approval of Noise Compatibility Program; Waimea-Kohala Airport, Kamuela, Hawaii

AGENCY: Federal Aviation Administration, DOT.

ACTION: Notice.

SUMMARY: The Federal Aviation Administration (FAA) announces its findings on the Noise Compatibility Program submitted by the state of Hawaii, Department of Transportation under the provisions of Title I of the Aviation Safety and Noise Abatement Act of 1979 (Public Law 96-193) and Title, 14 Code of Federal Regulations, Part 150 (FAR Part 150). These findings are made in recognition of the description of Federal and nonfederal responsibilities in Senate Report No. 96-52 (1980). On February 14, 2000, the FAA determined that the noise exposure maps submitted by the state of Hawaii, Department of Transportation under FAR Part 150 were in compliance with applicable requirements. On August 9, 2000, the Associate Administrator for Airports approved six of the seven program measures included in the Waimea-Kohala Airport Noise Compatibility Program. One measure was approved as a voluntary measure, five measures were approved outright, and one measure was disapproved pending the submission of additional information.

EFFECTIVE DATE: The effective date of the FAA's approval of the Waimea-Kohala Airport Noise Compatibility Program is August 9, 2000.

FOR FURTHER INFORMATION CONTACT: David Welhouse, Airport Planner, Federal Aviation Administration, Honolulu Airports District Office, HNL-621. Telephone: (808) 541-1243. Mailing address: P.O. Box 50244, Honolulu, Hawaii 96850-0001. Street address: 300 Ala Moana Blvd., Room 7-128, Honolulu, HI 96813. Documents reflecting this FAA action may be reviewed at this location.

SUPPLEMENTARY INFORMATION: This notice announces that the FAA has given its overall approval to the Noise Compatibility Program for the Waimea-Kohala Airport, effective August 9, 2000.

Under Section 104(a) of the Aviation Safety and Noise Abatement Act of 1979 (hereinafter referred to as “the Act”), an airport operator who has previously submitted a Noise Exposure Map, may submit to the FAA a Noise Compatibility Program which sets forth the measures taken or proposed by the airport operator for the reduction of existing noncompatible land uses and prevention of additional noncompatible land uses within the area covered by the Noise Exposure Maps. The Act requires such programs to be developed in consultation with interested and affected parties including local communities, government agencies, airport users, and FAA personnel.

Each airport Noise Compatibility Program developed in accordance with FAR Part 150 is a local program, not a Federal program. The FAA does not substitute its judgment for that of the airport proprietor with respect to which measures should be recommended for action. The FAA's approval or disapproval of FAR Part 150 program recommendations is measured according to the standards expressed in FAR Part 150 and is limited to the following determinations:

a. The Noise Compatibility Program was developed in accordance with the provisions and procedures of FAR Part 150;

b. Program measures are reasonably consistent with achieving the goals of reducing existing noncompatible land uses around the airport and preventing the introduction of additional noncompatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport Noise Compatibility Program are delineated in FAR Part 150, Section 150.5. Approval is not a determination concerning the acceptability of land uses under Federal, State, or local law. Approval does not by itself constitute a FAA implementing action. A request for Federal action or approval to implement specific noise compatibility measures may be required, and a FAA decision on the request may require an environmental assessment of the proposed action. Approval does not constitute a commitment by the FAA to financially assist in the implementation of the program nor a determination that all measures covered by the program are eligible for grant-in-aid funding from the FAA. Where Federal funding is sought, requests for project grants must be submitted to the FAA Airports District office in Honolulu, Hawaii.

The State of Hawaii, Department of Transportation submitted to the FAA on January 25, 2000, the noise exposure maps, descriptions, and other documentation produced during the noise compatibility planning study conducted from May 1997 through November 1998. The Waimea-Kohala Airport noise exposure maps were determined by FAA to be in compliance with applicable requirements on February 14, 2000. Notice of this determination was published in the Federal Register on February 29, 2000.

The Waimea-Kohala Airport study contains a proposed Noise Compatibility Program comprised of actions designed for phased implementation by airport management and adjacent jurisdictions. It was requested that the FAA evaluate and approve this material as a Noise Compatibility Program as described in Section 104(b) of the Act. The FAA began its review of the program on February 14, 2000, and was required by a provision of the Act to approve or disapprove the program within 180 days (other than the use of new flight procedures for noise control). Failure to approve or disapprove such program within the 180-day period shall be deemed to be an approval of such program.

The submitted program contained seven proposed actions for noise mitigation on and off the airport. The FAA completed its review and determined that the procedural and substantive requirements of the Act and FAR Part 150 have been satisfied. The Associate Administrator for Airports approved the overall program effective August 9, 2000.

Six of the seven program elements were approved. The following measure was approved as a voluntary measure: The State of Hawaii, Department of Transportation, Airports Division should remind pilots of the existing noise sensitive areas within the Airport environs and that the overflight of these areas should be avoided. The following five measures were approved outright: Use comprehensive planning and zoning to maintain compatible land use; Acquiring avigation easements from landowners that presently have compatible land but may become incompatible due to future development; Acquiring development rights from land owners which presently own land that has a compatible land use; Review and modification of Subdivision Regulations; the use of tax incentives to maintain compatible land use. The following measure was disapproved pending submission of additional information: Land banking will allow DOTA to purchase, in fee, existing compatible properties to ensure that these properties would remain compatible land uses.

These determinations are set forth in detail in a Record of Approval endorsed by the Associate Administrator for Airports on August 9, 2000. The Record of Approval, as well as other evaluation materials and the documents comprising the submittal are available for review at the FAA office listed above and at the administrative offices of the state of Hawaii, Department of Transportation, Airport Division.

Issued in Hawthorne, California on August 21, 2000.
Herman C. Bliss,
Manager, Airports Division, AWP-600, Western-Pacific Region.

[FR Doc. 00-22623 Filed 9-1-00; 8:45 am]

BILLING CODE 4910-13-M